DEPARTMENT OF COMMERCE

Foreign-Trade Zones Board

[B-61-2015]

Foreign-Trade Zone (FTZ) 119—Minneapolis-St. Paul, Minnesota; Authorization of Production Activity; CNH Industrial America, LLC; (Agricultural Equipment and Related Subassemblies and Attachments); Benson, Minnesota

On September 8, 2015, CNH Industrial America, LLC (CNH), a potential operator of FTZ 119, submitted a notification of proposed production activity to the Foreign-Trade Zones (FTZ) Board for its facilities located in Benson, Minnesota.

The notification was processed in accordance with the regulations of the FTZ Board (15 CFR part 400), including notice in the Federal Register inviting public comment (80 FR 56962-56963, 09/21/2015). The FTZ Board has determined that no further review of the activity is warranted at this time. The production activity described in the notification is authorized, subject to the FTZ Act and the Board's regulations, including Section 400.14.

Dated: January 6, 2016.
Andrew McGilvray,
Executive Secretary.

[FR Doc. 2016-00471 Filed 1-11-16; 8:45 am]

BILLING CODE 3510-DS-P